DEPARTMENT OF THE INTERIOR

National Park Service

Record of Decision: Final Environmental Impact Statement; Lake McDonald/Park Headquarters Wastewater Treatment System Rehabilitation, Glacier National Park, A Unit of Waterton-Glacier International Peace Park Flathead and Glacier Counties, MT

The Department of Interior, National Park Service (NPS) has prepared this Record of Decision on the Final Environmental Impact Statement on the Lake McDonald/Park Headquarters Wastewater Treatment System Rehabilitation for Glacier National Park, Montana. This Record of Decision is a statement of the decisions made as a result of environmental and socioeconomic analysis and consideration of public input. It describes the following: project background, the preferred alternative, other alternatives considered, the National Park Service decision and the basis for the decision, the environmentally preferable alternative, mitigation measures and the involvement of public, agencies and other nations.

Project Background

Glacier National Park (Park) attracts about 1.7 million visitors annually. Approximately 60 percent of these visitors enter the Park through the west entrance. The existing Lake McDonald wastewater treatment facility serves developed areas at Lake McDonald Lodge, Apgar Village, Sprague Creek, Apgar and Fish Creek Campgrounds, and Park Headquarters, park maintenance area, seasonal park and concession staff and year-round park employee residences.

In 1996, the Park determined that improvements and upgrades to the wastewater facility and collection system were needed to restore the original treatment capacity and protect resources from potential damage due to accidental wastewater discharges. Since 1997, the Park has upgraded lift stations at Lake McDonald Lodge and Sprague Creek Campground and has replaced the sewage collection system and made other improvements as necessary. The purpose of the proposed project is to rehabilitate and improve the existing wastewater treatment facility because it is no longer meeting its original treatment objectives or operating at the capacity it was originally designed for. In addition, the existing spray field used as part of the treatment process, is within the 100-year floodplain of McDonald Creek and the Middle Fork of the Flathead River and is only able to operate seasonally due to snow cover and or a high water table. The existing sewage storage lagoon is inadequate to store all the winter flow and precipitation during wet years, until the spray field is operational in the summer.

Decision (Selected Action)

The National Park Service will implement Alternative 3 as described in the Final Environmental Impact Statement on the Lake McDonald/park Headquarters Wastewater Treatment System Rehabilitation, with some minor clarifications and changes as indicated below to replace the existing wastewater treatment system with an advanced tertiary treatment wastewater facility that achieves the highest level of nutrient and pathogen removal of all the alternatives considered. The proposed wastewater treatment plant (WWTP) will incorporate sequencing batch reactors for nitrogen and phosphorus removal combined with chemicals that will remove additional phosphorus and suspended solids. In addition, UV disinfection will be used to kill pathogens prior to discharge. The proposed facility will require enlargement of the existing WWTP building to 60 feet × 100 feet. This method will insure that nutrients will be removed in accordance with treatment levels established by EPA and regulated by Montana DEQ.

In response to public comment received on the FEIS, the method for discharging the effluent has been changed from what was described in the FEIS. During the late spring, summer and early fall, when the plant will be treating up to 250,000 gallons of waste per day, the effluent will be treated to meet Montana DEQ standards for surface water discharge and will be disposed of by spray irrigation. Approximately 30 acres of the existing 58 acre spray field will be refurbished with new heads, pumps and controls and will cost approximately $150,000. Since the effluent will be treated to surface water discharge standards, irrigating the meadow by using the spray field is not part of the treatment process. However, it will provide a polishing effect. Any remaining nitrogen and phosphorus allowed by the discharge permit will be taken up by the plants and not enter the groundwater.

During the winter, when the plant will treat up to 12,000 gallons of waste per day, the effluent will be treated to a higher level to meet EPA underground injection control standards. To meet these higher standards, the effluent will be disinfected with ozone prior to filtration and then UV prior to discharge into an exfiltration gallery. The gallery (also known as a groundwater injection system) will be located southwest of the horse barn, within the vicinity of the existing spray field. The new plant's biological nutrient removal, filtration and disinfection process will achieve treatment standards set by EPA and regulated by DEQ. Chlorine and the disinfection by-products produced by chlorine will not be used or generated. Treated effluent discharges will meet Montana DEQ non-degradation water quality requirements in addition to EPA's underground injection control requirements.

The new site for the exfiltration gallery is within the area analyzed as part of the affected environment in the DEIS and FEIS. This site was not surveyed for the velvetleaf blueberry, although according to the park's Ecologist, it is not expected velvetleaf blueberry habitat. Once the snows have melted and prior to construction, the site will be surveyed. If any plants are located, the site for the exfiltration gallery will be adjusted to avoid them.

The proposed exfiltration gallery, described in the FEIS that was located closer to the Middle Fork of the Flathead River, is no longer being considered. Concerns about adversely affecting the hyporheic community and continued perceptions by the public that we were putting waste into a wild and scenic river led the NPS to reconsider this part of the proposal. Continued consultation with Dr. Jack Stanford, EPA and DEQ also contributed to redesign of the effluent discharge system.

Other Alternatives Considered

Several alternative wastewater treatment systems were evaluated in the Draft and Final EIS. Alternatives 1A and 1B would continue to use a lagoon treatment system similar to the existing facility. Alternative 1A would add an additional aerated lagoon plus a new 13 acre spray field outside the 100-year floodplain. Treated effluent would be discharged into the existing and new spray fields during the summer. During the winter, sewage would be stored in holding ponds. Alternative 1B would add additional lagoons for winter sewage storage until the existing spray field was operational in the in the late spring or early summer. This alternative would require disturbance of about 16 acres of new land for construction of additional storage lagoons. Treated effluent discharge would meet Montana DEQ water quality standards.

Alternative 2 is an advanced water treatment facility similar to the preferred alternative, but does not include the chemical and filtration treatments for phosphorus removal. This facility would use a series of three rapid infiltration basins to discharge the treated effluent to ground water in a terrace outside of the 100-year floodplain. About 9 acres of forest would need to be cleared to construct the infiltration basins. Montana DEQ ground water discharge standards would be met.

The No Action Alternative would continue operation of the existing WWTP and spray field. Because this facility is no longer treating to original design criteria, biological oxygen demand and suspended sediment concentrations would continue to increase. Occasional sewage spills from the lagoon may occur during wet springs when storage capacity is exceeded and the spray field cannot be operated. To reduce the potential for spills, it may be necessary to restrict Park or concession operations in the winter or early spring. The current facility would continue to meet state water quality requirements. The existing facility may not meet future demand because it is no longer capable of operating at the original capacity it was designed for.

The selected action (Alternative 3) is discussed in detail above, however several options for the discharge of the treated effluent were considered for this alternative. These were use of a constructed wetland, construction of an artificial pond or channel for infiltration, continued use of the existing spray field in the floodplain, direct discharge into the Middle Fork of the Flathead River and an exfiltration gallery in the floodplain of the Middle Fork of the Flathead River. Because the effluent is treated to the highest degree possible with available technology, (tertiary treatment), the type of discharge outlet is not a critical factor necessary to achieve treatment objectives. A constructed wetland would only be functional during a relatively short growing season, would require disturbance of approximately 2 acres, and may be difficult to operate efficiently because of the wide fluctuations in effluent discharges over the year. Furthermore it is not expected to substantially improve the quality of the effluent discharge since it is already being treated to the highest degree possible. Construction of infiltration ponds or channels would require clearing about 10 acres of forested land and would introduce a large visual artificial drainage feature to the landscape.

Environmental Preferred Alternative

The environmentally preferable alternative is defined as “the alternative that will promote the national environmental policy as expressed in the National Environmental Policy Act's section 101. Typically, this means the alternative that causes the least damage to the biological, and physical environment. It also means the alternative that best protects, preserves and enhances historic, cultural and natural resources” (Forty Most Asked Questions Concerning Council of Environmental Quality's (CEQ) National Environmental Policy Act Regulations, 1981).

Each of the action alternatives provides an environmentally preferable alternative in comparison to continued operation of the existing WWTP under the No Action Alternative. However, the selected action (Alternative 3) and the modifications made to the discharge of effluent, that has become the NPS decision, provides the highest level of sewage treatment of all the alternatives under consideration, with the least amount of adverse impacts to resources. In addition to biological nutrient removal, filtration and disinfection, the selected action (Alternative 3) disposes of effluent via land application. Protection of our surface and ground water is greatly enhanced by allowing the plants in the spray field to naturally uptake any nutrients remaining in the waste system. This provides the highest level of treatment possible.

National Park Service Decision

The National Park Service will implement the Alternative 3 (the preferred alternative) as described in the Final EIS and this ROD with the changes as explained above. The final decision on how to discharge the effluent was not described in the DEIS or FEIS. However, the area affected by this change in the preferred alternative was analyzed in the EIS, and there will be no additional or new impacts on resources from this change. Therefore a supplemental FEIS will not be prepared. The effluent discharge system as described in the FEIS would have adversely affected the hyporheic community located in the floodplain of the Middle Fork of the Flathead River. The basis for this decision is discussed below.

Basis for the Decision

Although each of the action alternatives evaluated in the FEIS would meet the purpose and need of the project, Alternative 3 provides the highest level of treatment (tertiary) and has the least impact on Park resources including the Middle Fork of the Flathead River, a Wild and Scenic River. Alternative 3 provides for biological and chemical treatment to remove both nitrogen and phosphorus and ozone and UV disinfection to kill pathogens. The water quality of treated effluent will meet Montana DEQ non-degradation requirements and further be polished by irrigating the pasture, so there will be no adverse impact to the Middle Fork of the Flathead River or groundwater. Construction of the exfiltration gallery southwest of the horse barn will cause temporary disturbance during construction of about .4 hectares (1 acre). Although this site is located within the 100 year floodplain of the Middle Fork of the Flathead River and McDonald Creek, it will be buried to avoid any adverse impacts to the floodplain and is exempt from compliance with NPS Guidelines for EO 11988. A floodplain permit will be obtained from the Flathead Regional Development Office to install the exfiltration gallery.

Alternative 3 will not have an adverse effect on the outstanding and remarkable values and qualities inherent within the recreational segment of the Middle Fork of the Flathead Wild and Scenic River, because there will be no adverse impact to water quality, scenic values, recreational use, or the free-flowing status of the river.

Alternative 3 will not adversely affect any federally listed threatened or endangered species or state listed species. There will be no long-term loss of Park natural resources. Adverse impacts to natural resources will be temporary and occur within an already disturbed area. The existing wastewater treatment building will be enlarged within an already disturbed area. The site where the exfiltration gallery will be buried will be revegetated.

Why the Other Alternatives Were Not Selected

Alternatives 1A and 1B would improve the quality of the treated effluent, meet anticipated water demands, and eliminate potential adverse environmental effects associated with the existing WWTP. However construction of new lagoons and spray fields would require a long-term surface disturbance. This would add an additional unnatural disturbance to the Park and would eliminate or modify plant communities and wildlife habitat. Several velvetleaf blueberry plants (a species listed as rare by the State of Montana) would be adversely affected and destroyed if these alternatives were implemented. There also would be minor changes in the visual landscape with the construction of new lagoons and forest clearing for a new spray field. These alternatives require the continued use of the existing 54 acre spray field within the 100 year floodplain of the Middle Fork of the Flathead River and the artificial irrigation of meadow habitat. Alternatives 1A and 1B were not selected because of the environmental effects associated with the need for additional ground disturbance and the desire to discontinue use of the existing spray field as part of the treatment process and provide a higher level of sewage treatment.

Alternative 2 is an advanced water treatment facility similar to Alternative 3, but does not include additional treatment to remove phosphorus. In addition, about 9 acres of forest would need to be cleared to construct the infiltration basins. Alternative 2 was not selected because of the larger disturbance and associated loss of natural plant communities and wildlife habitat that would be required.

The No Action alternative was rejected because continuation of the existing situation places park resources at significant risk and because the existing WWTP is no longer operating at the level of treatment, efficiency or capacity for which it was originally designed. Continued use of the facility may result in significant adverse effects on park resources, and result in limitations on Park and visitor operations.

The proposed exfiltration gallery, described in the FEIS, was located closer to the Middle Fork of the Flathead River, is no longer being considered. Concerns about adversely affecting the hyporheic community and continued perceptions by the public that we were putting waste into a wild and scenic river led the NPS to reconsider this part of the proposal. Further consultation with Dr. Jack Stanford, EPA and DEQ also contributed to the redesign of the effluent discharge system.

Measures To Minimize Environmental Harm

Measures to minimize environmental effects that could result from implementation of Alternative 3 have been incorporated into the decision. The NPS selected action minimizes environmental effects primarily by avoiding sensitive habitat and confining the area of disturbance to previously disturbed areas. This includes locating the WWTP building addition within the existing parking area, and burying the effluent discharge pipe and gallery within an already disturbed area in the vicinity of the horse barn. All areas disturbed by construction will be revegetated with native plant species. Restrictions in the timing and season of construction activity will be used to minimize impacts to wildlife species. Specific mitigation measures will be incorporated into construction specifications to prevent the introduction of hazardous materials and noxious and exotic plant material to the environment. Other protective measures will be used to prevent attracting wildlife and to minimize the potential for human/wildlife conflicts during construction. Environmental effects to water quality, groundwater, the hyporheic community and the Wild and Scenic River, will be minimized by the selection of the alternative that offers the highest level of sewage treatment available with current technology and incorporating a treatment level necessary to meet EPA and Montana DEQ non-degradation requirements.

Finding on Impairment of Park Resources and Values

In addition to determining the environmental consequences of the preferred and other alternatives, National Park Service policy (Management Policies 2001) requires analysis of potential effects to determine whether or not actions would impair park resources. Because implementation of the preferred alternative will not result in any major, adverse impacts to a resource or value whose conservation is (1) necessary to fulfill specific purposes identified in the establishing legislation of Glacier National Park; (2) key to the natural or cultural integrity of the park or to opportunities for enjoyment of the park; or (3) identified as a goal in the park's general management plan or other relevant National Park Service planning documents, there will be no impairment of Glacier National Park's resources or values.

Public and Interagency Involvement

A Notice of Intent was published in the Federal Register on October 18, 1999. Two public open houses were held in October 1999 to conduct scoping and solicit input from the public on the proposed improvements to the wastewater treatment facility. The draft EIS was released in January 2000 and two additional public open houses were held in March 2000. A Notice of Availability for the Draft EIS was issued in the Federal Register on February 7, 2000. And a Notice of Availability for the Final EIS appeared in the Federal Register on August 28, 2000.

Consultation and coordination was held with the U. S. Forest Service, U.S. Fish and Wildlife Service, U.S. Army Corps of Engineers, Environmental Protection Agency, Montana Department of Environmental Quality, Flathead Regional Development Office, Flathead County Department of Health and Dr. Jack Stanford (Director of the Flathead Lake Biological Station at Yellow Bay). A Biological Assessment was submitted to the US Fish and Wildlife Service in April 2000. On September 21, 2000, they wrote stating they concurred with our determination of “not likely to adversely effect” grizzly bears, gray wolves, Canada Lynx and bald eagles. They agreed with the “no effect” determination for bull trout. On July 17, 2000 the Army Corps of Engineers surveyed the site for wetlands and found no evidence that they were present. On October 23, 2000, NPS Ecologist, Tara Williams conducted a wetland survey on additional lands in the area to determine if an existing wetland could be used as part of the treatment process. None were found.

Comments received on the Final EIS also concluded that the Environmental Protection Agency supported the Preferred Alternative. They also recommended that the ultimate sludge disposal location be identified and selected. A subsequent phone call clarified they did not intend for the NPS to delay in issuing the Record of Decision before resolving this, but to explain in the ROD our progress to date in locating a site. The NPS has continued to communicate with local landfills and sewage treatment plants throughout the Flathead Valley. Columbia Falls and Kalispell indicated that they will take the sludge, however they are unwilling to sign a contract today for sludge disposal that won't be necessary for another 8 years.

Two letters were also received from the Coalition for Canyon Preservation during the 30 day no-action period on the FEIS. One of these letters raised a new concern about impacts to groundwater that had not been raised in their comments on the Draft EIS. Groundwater resources and impacts were addressed in the Draft and Final EIS under the heading Water Resources and Floodplains. Specific references to groundwater are found on pages 45, 58, 59, 60, 62. Specific references to the hyporheic community that also lives in the groundwater are found on pages 67, 68, 69. The NPS decision and preferred alternative, as described in the FEIS and ROD, provides for treatment of wastewater at the highest level that technology allows. Concerns raised by CCP and other members of the public contributed to the NPS taking another look at how best to protect the hyporheic community and the Wild and Scenic River. This resulted in further modification of the effluent discharge method described in the FEIS. The new location for the exfiltration gallery and the use of the spray field during the spring, summer and fall months as described in this ROD, will result in an even better treatment system than proposed in the DEIS or FEIS.

Neither direct discharge to the Middle Fork of the Flathead River or constructing an exfiltration gallery just outside the 10 year floodplain of the River will be further considered.

As described in this record of decision treating the effluent during the late spring, summer and early fall to surface water standards and then discharging it through the existing spray field (which is not part of the treatment process) will ensure that the groundwater and hyporheic communities are not adversely affected. Use of an exfiltration gallery (near the horse barn) and treatment of the effluent to meet drinking water standards, will ensure that groundwater is not adversely affected. It will also provide protection to the water quality of the wild and scenic river and the values for which it was designated a wild and scenic river.

Concerns were also raised by the CCP about development within floodplains. The exfiltration gallery will be buried 6 feet below the surface in an already disturbed area within the existing spray field. It will not present an obstruction within the floodplain. This is also exempted from compliance with the Executive Order 11988, in accordance with NPS Guidelines for implementing the executive order, because it is water dependent. Siting it within an already disturbed area was suggested by CCP in a letter dated October 12, 2000.

All comments received on this project are on file at Park headquarters in West Glacier, Montana. Public and agency comments were obviously an important component of this project and greatly assisted with modification and selection of Alternative 3 and the NPS decision.

Conclusion

Alternative 3 with the changes described in this record of decision, provides the most comprehensive and effective method among the alternatives considered for rehabilitating the wastewater treatment system in the Lake McDonald/Park Headquarters area. The selection of Alternative 3 as reflected by the analysis contained in the environmental impact statement, would not result in the impairment of park resources and will allow the National Park Service to conserve park resources and provide for their enjoyment by visitors.

Recommended:
Dated: March 30, 2001.
Suzanne Lewis,
Superintendent, Glacier National Park, National Park Service.
Approved:
Dated: April 9, 2001.
Michael D. Synder,
Regional Director, Intermountain Regional Office, National Park Service.

[FR Doc. 01-12013 Filed 5-11-01; 8:45 am]

BILLING CODE 4310-70-P